ENVIRONMENTAL PROTECTION AGENCY

40 CFR Parts 52 and 70

[EPA-R07-OAR-2012-0749; FRL-9795-1]

Approval and Promulgation of Implementation Plans and Operating Permits Program; State of Missouri

AGENCY: Environmental Protection Agency (EPA).

ACTION: Proposed rule.

SUMMARY: EPA is proposing to approve a revision to the State Implementation Plan (SIP) and Operating Permits Program to amend the definitions provisions of the rules. This SIP revision and revision to the Missouri operating permits program proposes to add the compounds propylene carbonate and dimethyl carbonate to the list of compounds which are excluded from the definition of Volatile Organic Compound (VOC) for consistency with the Federal definition of VOC. The SIP revision also proposes to correct two asbestos method subpart references. This revision also proposes approval of Missouri's request to amend the SIP to meet the 2008 fine particulate matter (PM2.5) National Ambient Air Quality Standards implementation requirements of the May 16, 2008, New Source Review (NSR) PM2.5 Rule. In this SIP revision, Missouri adopted rule revisions to establish the requirement for NSR permits to address directly emitted PM2.5 and precursor pollutants; and significant emission rates for direct PM2.5 and precursor pollutants (sulfur dioxide (SO2) and nitrogen dioxide (NOX)).

DATES: Comments on this proposed action must be received in writing by May 2, 2013.

ADDRESSES: Submit your comments, identified by Docket ID No. EPA-R07-OAR-2012-0749, by mail to: Craig Bernstein, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Craig Bernstein at (913) 551-7688, or by email at bernstein.craig@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: March 20, 2013.
Karl Brooks,
Regional Administrator, Region 7.

[FR Doc. 2013-07403 Filed 4-1-13; 8:45 am]

BILLING CODE 6560-50-P